DEPARTMENT OF EDUCATION

Notice of Proposed Information Collection Requests

AGENCY: Department of Education.

ACTION: Correction Notice.

SUMMARY: On November 20, 2006, the Department of Education published a notice in the Federal Register (Page 67115, Column 3) for the information collection, “Mathematics and Science Partnerships Program: Annual Performance Report”. This notice hereby corrects the burden hours to 8,400. The IC Clearance Official, Regulatory Information Management Services, Office of Management, hereby issues a correction notice as required by the Paperwork Reduction Act of 1995.

Dated: November 20, 2006.
Angela C. Arrington,
IC Clearance Official, Regulatory Information Management Services, Office of Management.

[FR Doc. E6-19881 Filed 11-22-06; 8:45 am]

BILLING CODE 4000-01-P